DEPARTMENT OF ENERGY

Federal Energy Regulatory Commission

[Docket Nos. RM01-10-000, EY06-7-000, and TS06-2-000]

Standards of Conduct for Transmission Providers and Venice Gathering System, L.L.C.; Notice Granting Extension of the Waiver of Posting and Recordkeeping Requirements

January 25, 2006.

On December 30, 2005, Venice Gathering System, L.L.C. (Venice Gathering) filed to seek an extension of the emergency waiver of § 358.4(a)(2) of the Commission's regulations, 18 CFR 358.4(a)(2) (2005). Venice Gathering requests an extension of that waiver as it relates to section 358.4(a)(2) of the Commission's regulations until March 31, 2006 or the date on which the Venice Gathering system has returned to full pre-hurricane operation.

On the same date, in a separate filing, Venice Gathering filed to seek an extension of § 358.4(b)(3)(iv) of the Commission's regulations, 18 CFR 358.4(b)(3)(iv) (2005) with respect to the deadline for updating the information contained in its posted employee organizational charts and its posted job descriptions. Venice Gathering requests an extension of that waiver as it relates to § 358.4(b)(3)(iv) of the Commission's regulations until January 31, 2006.

Venice owns and operates a FERC-jurisdictional natural gas gathering and transmission system consisting of (1) A twenty-six-inch mainline, extending from the South Timbalier Block 151 compressor platform in the Gulf of Mexico to the Venice Plant, (2) a twenty-four-inch mainline extending from the South Timbaliler Block 151 compressor platform to the West Delta Block 79A platform, and (3) a twenty-two-inch mainline extending from the West Delta Block 79A platform to the Venice Plant located near Venice, Louisiana. In its initial request for exemption, Venice stated that Hurricane Katrina caused extensive damage to processing plants and offshore pipelines located along the Louisiana Gulf Coast, including the Venice Plant and the Venice Gathering system.

In its motions for an extension, Venice explains that restoration work has proceeded diligently at the Venice Gathering and Venice Plant facilities. Venice notes, however, that this restoration work is expected to continue well into 2006. Venice states that these extensions are needed to permit all employees within its parent company who have expertise and availability to assist in the restoration efforts to engage in detailed communications about the status of the restoration efforts and to coordinate joint operations and repair work, without regard to their designations under Order No. 2004 and without the requirement to log each individual deviation from the Standards of Conduct.

In its January 18, 2006 supplement to the motions for an extension, Venice Gathering clarifies that limited quantities of gas are flowing to Trunkline Gas Company LLC through two new interconnections. Venice Gathering clarifies, further, that although the Venice Plant is not currently operational and is not expected to become operational for some time, it is working with Venice Energy Services Company, L.L.C. and with the appropriate downstream pipelines to allow gas to flow in its pre-hurricane direction without being processed in the Venice Plant.

Venice Gathering states that, in order to enable it to take all appropriate steps within its control to restore its system to full, pre-hurricane operations, it is necessary that the waiver of the recording and posting requirements of section 358.4(a)(2) of the Commission's regulations be extended. Venice Gathering states, further, that due to the significant Targa resources devoted to the restoration project, it is left with limited resources to carry out revisions to its website postings related to its recent change in control after the Targa acquisition.

The Commission initially granted a temporary emergency waiver of §§ 358.4(a)(2) and 358.4(b)(3)(iv) of the Commission's regulations in a notice issued on November 28, 2005 in order to allow Venice Gathering to proceed with the restoration work on its pipeline facilities and on the Venice Gathering Processing Plant necessitated by Hurricane Katrina. The Commission granted the waiver until the earlier of the end of the gas day on December 31, 2005, or the date on which the Venice Gathering system returned to full pre-hurricane operation, without prejudice to Venice Gathering requesting a further extension, if necessary.

The Commission notes that Venice issued a notice on its Internet website indicating that it estimates the repairs will be completed by February 1, 2006.¹ The Commission also notes that Venice asserts that it is able to make nominations for gas at two receipt points. The Commission, therefore, will grant Venice Gathering an extension of waiver of the otherwise applicable requirements of section 358.4(a)(2) to record and post a log of emergency-related deviations from the Standards of Conduct until the end of the gas day on January 31, 2006. This waiver extension is granted without prejudice to Venice requesting a further extension, if necessary, with specific justification for such a request.

¹ See http://www.venicegathering.com/Notices/notice010406htm (January 20, 2006).

The Commission also grants an extension for the waiver of the recording and posting requirements of section 358.4(b)(3)(iv) requirements to post updated information on organizational changes resulting from the acquisition by Targa Resources, Inc. (Targa) of Venice Gathering's managing member, Dynegy Midstream Services, Limited Partnership (Dynegy Midstream) until January 31, 2006.

The Commission directs Venice Gathering to ensure that the employees affected by this waiver observe the no-conduit prohibition in the Standards of Conduct, 18 CFR 358.5(b)(7) (2005).

By direction of the Commission.
Magalie R. Salas,
Secretary.

[FR Doc. E6-1253 Filed 1-31-06; 8:45 am]

BILLING CODE 6717-01-P